DEPARTMENT OF STATE

[Public Notice: 10138]

Determination Pursuant to the Foreign Missions Act

Pursuant to the authority vested in me as the Secretary of State under the Foreign Missions Act, 22 U.S.C. 4301 et seq. (“the Act”), I hereby determine it is reasonably necessary to achieve one or more of the purposes set forth in section 204(b) of the Act (22 U.S.C. 4304(b)) to designate 2820 Broadway, San Francisco, CA 94123, which is owned by the Government of the Russian Federation, as a location and facilities for which entry or access is strictly prohibited by all individuals, including but not limited to representatives or employees of the Russian Government and their dependents, without first obtaining written permission from the Department of State's Office of Foreign Missions. Such prohibitions will take effect as of 11:59 p.m. Pacific Daylight Time on October 1, 2017.

As a result, all persons on said property are required to depart the premises no later than the date and time stated above.

For purposes of this determination, 2820 Broadway, San Francisco, CA 94123, includes any buildings and/or improvements thereon and the land ancillary thereto.

Access to the property will be subject to terms and conditions set forth by the Office of Foreign Missions.

Rex W. Tillerson,
Secretary of State.

[FR Doc. 2017-20269 Filed 9-21-17; 8:45 am]

BILLING CODE 4710-43-P